DEPARTMENT OF THE INTERIOR

Fish and Wildlife Service

[Docket No. FWS-R7-NWRS-2025-1166; FF07R01500-256-FXRS126107AKEX0]

Notice of Availability; Draft Environmental Assessment for the Proposed Winter Access Across Arctic National Wildlife Refuge

AGENCY: Fish and Wildlife Service, Interior.

ACTION: Notice of availability; request for comments.

SUMMARY: In accordance with the National Environmental Policy Act of 1969, as amended, and the Alaska National Interest Lands Conservation Act of 1980 (ANILCA), as amended, along with other laws as applicable, we, the U.S. Fish and Wildlife Service (FWS), announce availability of a Draft Environmental Assessment (draft EA) to evaluate the effects associated with an access to inholdings request under ANILCA 1110(b) from the Kaktovik Iñupiat Corporation (KIC). KIC seeks a 20-year right-of-way (ROW) permit for certain Refuge lands located between the western boundary of the Refuge and KIC's inholdings near the community of Kaktovik. The ROW permit would enable KIC to annually create and utilize a winter snow trail for the purpose of transporting large equipment and commodities to its inholdings. We invite comment on the draft EA from the public and local, State, Tribal, and Federal agencies.

DATES: We must receive your written comments on or before February 9, 2026.

ADDRESSES:

Obtaining Documents: The documents this notice announces, as well as any comments and other materials that we receive, will be available for public inspection at https://www.regulations.gov in Docket No. FWS-RX-NWRS-2024-1166.

Submitting Comments: To send written comments, please use one of the following methods, and note that your information requests or comments are in reference to the draft EA.

• Internet: Submit comments at https://www.regulations.gov under Docket No. FWS-R7-NWRS-2025-1166.

• U.S. Mail: Public Comments Processing, Attn: Docket No. FWS-R7-NWRS-2025-1166; U.S. Fish and Wildlife Service Headquarters, MS: PRB/3W; 5275 Leesburg Pike, Falls Church, VA 22041-3803.

For more information, see Public Review Process under SUPPLEMENTARY INFORMATION.

FOR FURTHER INFORMATION CONTACT: Merben Cebrian, Arctic National Wildlife Refuge Manager, by telephone at 907-388-6751 via email at merben_cebrian@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the National Environmental Policy Act of 1969, as amended (NEPA; 42 U.S.C. 4321 et seq.) and Alaska National Interest Lands Conservation Act of 1980 (ANILCA; Pub. L. 96-487, Dec. 2, 1980; 16 U.S.C. 3111-3126), on February 8, 2023 (88 FR 8305), we, the U.S. Fish and Wildlife Service (FWS), announced via the Federal Register that we were preparing a Draft Environmental Assessment (EA) to evaluate the effects associated with an access to inholdings request under ANILCA 1110(b) from the Kaktovik Iñupiat Corporation (KIC). KIC seeks a 20-year right-of-way (ROW) permit for certain Refuge lands located between the western boundary of the Refuge and KIC's inholdings near the community of Kaktovik. The ROW permit would enable KIC to annually create and utilize a winter snow trail for the purpose of transporting large equipment and commodities to its inholdings. FWS must decide whether to issue a 20-year right-of-way (ROW) permit requested by KIC for the use of Refuge lands for the annual development of a winter overland snow trail to the applicant's inholding.

ANILCA provides additional requirements for conservation system units in Alaska, including refuges. Specifically, ANILCA Section 1110(b) assures adequate and feasible access to private owned lands surrounded by public lands, also known as inholdings. KIC's request pertains to accessing KIC-owned lands which are located within the Refuge and have been determined, by FWS, to be inholdings.

National Environmental Policy Act Compliance

The proposed issuance of a permit triggers the need for compliance with NEPA. The draft EA was prepared to analyze the impacts of issuing an access to inholdings request under ANILCA 1110(b).

Proposed Action

FWS's Proposed Action is to issue the requested 20-year ROW permit. The ROW permit would authorize KIC to annually construct a snow trail and transport goods across Refuge lands and waters between the Refuge's western boundary and KIC's inholdings near Kaktovik. The ROW permit would accommodate two routes—a shore fast sea ice route and an overland route—along with three connecting routes that join the overland and shore fast sea ice routes between Simpson Cove and Anderson Point (see Map 4 in Appendix 3 in draft EA). Vehicles could move between the sea ice and overland routes at these three locations. Both routes and all three connectors could be utilized, at any time, each season.

The overland route would cross 49.6 miles of Refuge lands and waters before reaching the applicant's inholding. The shore fast sea ice route would cross 42.9 miles of Refuge lands and waters before reaching the applicant's inholding. Shore fast sea ice is defined as sea ice that is grounded or on less than 3 meters of water to the seabed. The three connecting routes would cross 4.3 miles of Refuge lands and waters in total. The ROW would be 200-feet in width along the 96.8 miles of Refuge lands and waters. The footprint of the ROW would total 2,355 acres in which KIC would construct an annual 30-foot-wide snow trail.

Public Review Process

In accordance with the direction provided in Executive Order (E.O.) 14154 and the subsequent rescission of the Council of Environmental Quality's National Environmental Policy Act (NEPA) regulations, in July 2025, the Department of the Interior issued updated NEPA procedures. E.O. 14154 directs all agencies to prioritize efficiency and certainty and avoid and minimize delays and ambiguity in the permitting process. The Department's July NEPA procedures clarify that NEPA does not require public involvement when a bureau prepares an EA, and for that reason, FWS has discretion to determine whether to involve the public, when to involve the public, and what kind of public involvement is most appropriate. To comply with this Presidential directive and updated Departmental NEPA procedures, the FWS has determined to reduce the previously noticed public comment period for this EA from 45 days to 15 days. This serves the dual purpose of compliance with updated Departmental NEPA procedures while still offering the public the opportunity to review and comment on this EA.

Request for Public Comments

You may submit written comments and materials concerning the draft EA by one of the methods listed in ADDRESSES. Comments previously submitted need not be resubmitted, as they will be fully considered.

Public Availability of Comments

If you submit a comment via https://www.regulations.gov, your entire comment, including any personal identifying information such as your address, phone number, and email address, will be posted on the website. If you submit a hardcopy comment that includes personal identifying information, you may request at the top of your document that we withhold this information from public review. However, we cannot guarantee that we will be able to do so. We will post all hardcopy comments on https://www.regulations.gov.

Tribal Consultation and Comment

The meaningful input of Alaska Native Tribes and Alaska Native Corporations is of critical importance to the draft EA. Therefore, and as expressed in Executive Order 13175, “Consultation and Coordination with Indian Tribal Governments,” the Federal officials that have been delegated authority by the Secretary are committed to honoring the unique government-to-government political relationship that exists between the Federal Government and federally recognized Tribes. Consultation with Alaska Native Corporations is based on Public Law 108-199, div. H, sec. 161, January 23, 2004, 118 Stat. 452, as amended by Public Law 108-447, div. H, title V, sec. 518, December 8, 2004, 118 Stat. 3267, which provides that: “The Director of the Office of Management and Budget and all Federal agencies shall hereafter consult with Alaska Native corporations on the same basis as Indian Tribes under Executive Order No. 13175.” FWS will hold individual consultation meetings upon request. The Secretary of the Interior will consider Alaska Native Tribes' and Alaska Native Corporations' information, input, and recommendations, and address their concerns as much as practicable.

Authority

We publish this notice under the National Environmental Policy Act of 1969, as amended (42 U.S.C. 4321 et seq.), and the Department of the Interior's implementing regulations and procedures at 43 CFR 46, as well as in compliance with the Alaska National Interest Lands Conservation Act of 1980, as amended (ANILCA; Pub. L. 96-487, sec. 1302(h), Dec. 2, 1980; 16 U.S.C. 3192(h).

Sara Boario,
Regional Director, Alaska Region, U.S. Fish and Wildlife Service.

[FR Doc. 2026-01252 Filed 1-22-26; 8:45 am]

BILLING CODE 4333-15-P